DEPARTMENT OF THE INTERIOR

U.S. Geological Survey

Revision of a Currently Approved Collection: Users, Uses, and Benefits of Landsat Satellite Imagery

AGENCY: United States Geological Survey (USGS), Interior.

ACTION: Notice; request for comments of a currently approved collection (1028-0091).

SUMMARY: We (U.S. Geological Survey) will ask the Office of Management and Budget (OMS) to approve the information collection (IC) described below. As required by the Paperwork Reduction Act of 1995 (PRA), and as a part of our continuing efforts to reduce paperwork and respondent burden, we invite the general public and other Federal agencies to take this opportunity to comment on this IC. As a federal agency, we may not conduct or sponsor and you are not required to respond to, a collection of information unless it displays a currently valid OMB control number.

DATES: You must submit comment on or before September 10, 2010.

ADDRESSES: Please send your comments concerning the IC to Phadrea Ponds, Information Collection Clearance Officer, U.S. Geological Survey, 2150-C Centre Avenue, Fort Collins, CO 80526 (mail); (970) 226-9230 (fax); or pponds@usgs.gov (e-mail). Please reference Information Collection 1028-0091.

FOR FURTHER INFORMATION CONTACT: Holly Miller by mail at U.S. Geological Survey, 2150-C Centre Avenue, Fort Collins, CO 80526, or by telephone at (970) 226-9133.

SUPPLEMENTARY INFORMATION:

I. Abstract

In 2008, the USGS's Land Remote Sensing (LRS) Program initiated a study to determine the users, uses, and benefits of Landsat imagery. Before that study, there had been very limited assessments of the users of this imagery to better understand the uses and benefits; the last comprehensive evaluation of the benefits of Landsat was completed over 30 years ago. The current information collection (1028-0091) provided up-to-date information about the current users and uses of Landsat imagery, as well as the benefits derived from the availability of the imagery. We are proposing revisions to the existing collection that will allow us to focus specifically on Landsat users where the last collection provided general information from a broader population of moderate resolution imagery users. This revised collection will allow the LRS Program to examine the changes in users, uses and benefits resulting from Landsat imagery now being offered at no cost to the users. This recent policy change has resulted in a dramatic increase in the amount of imagery being requested and distributed directly from USGS. Because of the influx of new users, the LRS Program would like to know if the needs of the new users are similar or different when compared to the current roster of established users. The Program will use the information from this collection to understand if they are currently meeting the needs of their user community. Questions will be asked to determine user characteristics, uses and benefits of Landsat imagery.

II. Data

OMB Control Number: 1028-0091.

Title: Users, Uses, and Benefits of Landsat Satellite Imagery.

Type of Request: Revision of a currently approved collection.

Respondent's Obligation: Voluntary.

Frequency of Collection: One time only.

Estimated Number and Description of Respondents: 2500 domestic and international state and local land management officials, and university scientists and researchers.

Estimated Total Annual Responses: 2500.

Estimated Time per Response: 30 minutes.

Estimated Total Annual Burden Hours: 1250.

III. Request for Comments

We invite comment concerning this IC on: (1) Whether or not the collection of information is necessary, including whether or not the information will have practical utility; (2) the accuracy of our estimate of the burden for this collection of information; (3) ways to enhance the quality, utility, and clarity of the information to be collected; and (4) ways to minimize the burden of the collection of information on respondents. Please note that the comments you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that it will be done.

Dated July 2, 1010.
Bryant Cramer,
Associate Director for Geography.

[FR Doc. 2010-16736 Filed 7-9-10; 8:45 am]

BILLING CODE P